DEPARTMENT OF COMMERCE

International Trade Administration

[A-583-831]

Stainless Steel Sheet and Strip From Taiwan; Final Results and Partial Rescission of Antidumping Duty Administrative Review

AGENCY: Import Administration, International Trade Administration, Department of Commerce.

ACTION: Notice of final results of antidumping duty administrative review of stainless steel sheet and strip from Taiwan.

SUMMARY: On August 8, 2001, the Department of Commerce (“the Department”) published in the Federal Register the preliminary results and partial rescission of its administrative review of the antidumping duty order on stainless steel sheet and strip from Taiwan (66 FR 41509). This review covers imports of subject merchandise from Yieh United Steel Corporation (“YUSCO”), Tung Mung Development Corporation (“Tung Mung”), Chia Far Industrial Factory Co., Ltd. (“Chia Far”) and Ta Chen Stainless Pipe, Ltd. (“Ta Chen'). The period of review (“POR”) is January 4, 1999 through June 30, 2000.

Based on our analysis of the comments received, we have made changes in the margin calculations for YUSCO and Tung Mung. Therefore, the final results differ from the preliminary results of review. The final weighted-average dumping margins for the reviewed firms are listed below in the section entitled “Final Results of the Review.” In addition, we are rescinding the review with respect to Ta Chen.

EFFECTIVE DATE: February 13, 2002.

FOR FURTHER INFORMATION CONTACT: Steve Bailey (“YUSCO”), Mesbah Motamed (“Tung Mung”), Stephen Shin (“Chia Far”), Doreen Chen (“Ta Chen”),or Laurel LaCivita, Import Administration, International Trade Administration, U.S. Department of Commerce, 14th and Constitution Avenue, N.W., Washington, D.C. 20230; telephone: (202) 482-1102, (202) 482-1382, (202) 482-0413, (202) 482-0408 or (202) 482-4243, respectively.

SUPPLEMENTARY INFORMATION:

THE APPLICABLE STATUTE

Unless otherwise indicated, all citations to the statute are references to the provisions effective January 1, 1995, the effective date of the amendments made to the Act by the Uruguay Round Agreements Act. In addition, unless otherwise indicated, all citations to the Department's regulations are to the regulations at 19 CFR part 351 (2001).

Background

On August 8, 2001, the Department published Stainless Steel Sheet and Strip in Coils From Taiwan: Preliminary Results and Partial Rescission of Antidumping Duty Administrative Review, 66 FR 41509 (August 8, 2001) (“Preliminary Results”). We invited parties to comment on these preliminary results. The review covers imports of subject merchandise from YUSCO, Tung Mung, Chia Far and Ta Chen. The POR is June 8, 1999, through June 30, 2000.

We received written comments on September 21, 2001, from Chia Far and from petitioners¹ concerning YUSCO, Tung Mung and Ta Chen and on September 26, 2001, concerning Chia Far. On September 28, 2001, we received rebuttal comments from YUSCO, Tung Mung, Chia Far and from petitioners concerning Chia Far.

¹ Allegheny Ludlum, AK Steel Corporation (formerly Armco, Inc.), J&L Specialty Steel, Inc., North American Stainless, Butler-Armco Independent Union, Zanesville Armco Independent Union, and the United Steelworkers of America, AFL-CIO/CLC.

As we stated in that notice, we preliminarily rescinded this review with respect to Ta Chen, pursuant to its claim of no shipments of the subject merchandise during the POR. On September 28, 2000, October 4, 12, and 31, 2000, Ta Chen reported that it had no entries of subject merchandise during the period of review. Ta Chen further stated that its U.S. affiliate, Ta Chen International's (“TCI”) had resales of SSSS from Taiwan during the POR, but these sales were from inventory that was entered into the United States prior to the suspension of liquidation. Ta Chen also certified that all resales of Taiwanese merchandise made from TCI's U.S. warehouse inventory during the POR were entered into the United States prior to the POR. The Department's Customs inquiry indicates that such merchandise did not enter the United States after the suspension of liquidation.

On September 21, 2001, petitioners submitted a case brief arguing that this review should not be rescinded with respect to Ta Chen. Since no information has been developed on the record demonstrating that Ta Chen made any shipments during the POR we are now rescinding this review with respect to Ta Chen. We are now completing the administrative review in accordance with section 751 of the Act.

Scope of the Review

For purposes of this administrative review, the products covered are certain stainless steel sheet and strip in coils. Stainless steel is an alloy steel containing, by weight, 1.2 percent or less of carbon and 10.5 percent or more of chromium, with or without other elements. The subject sheet and strip is a flat-rolled product in coils that is greater than 9.5 mm in width and less than 4.75 mm in thickness, and that is annealed or otherwise heat treated and pickled or otherwise descaled. The subject sheet and strip may also be further processed (e.g., cold-rolled, polished, aluminized, coated, etc.) provided that it maintains the specific dimensions of sheet and strip following such processing.

The merchandise subject to this review is classified in the Harmonized Tariff Schedule of the United States (HTS) at subheadings: 7219.13.0031, 7219.13.0051, 7219.13.0071, 7219.1300.81², 7219.14.0030, 7219.14.0065, 7219.14.0090, 7219.32.0005, 7219.32.0020, 7219.32.0025, 7219.32.0035, 7219.32.0036, 7219.32.0038, 7219.32.0042, 7219.32.0044, 7219.33.0005, 7219.33.0020, 7219.33.0025, 7219.33.0035, 7219.33.0036, 7219.33.0038, 7219.33.0042, 7219.33.0044, 7219.34.0005, 7219.34.0020, 7219.34.0025, 7219.34.0030, 7219.34.0035, 7219.35.0005, 7219.35.0015, 7219.35.0030, 7219.35.0035, 7219.90.0010, 7219.90.0020, 7219.90.0025, 7219.90.0060, 7219.90.0080, 7220.12.1000, 7220.12.5000, 7220.20.1010, 7220.20.1015, 7220.20.1060, 7220.20.1080, 7220.20.6005, 7220.20.6010, 7220.20.6015, 7220.20.6060, 7220.20.6080, 7220.20.7005, 7220.20.7010, 7220.20.7015, 7220.20.7060, 7220.20.7080, 7220.20.8000, 7220.20.9030, 7220.20.9060, 7220.90.0010, 7220.90.0015, 7220.90.0060, and 7220.90.0080. Although the HTS subheadings are provided for convenience and Customs purposes, the Department's written description of the merchandise under review is dispositive.

² Due to changes to the HTS numbers in 2001, 7219.13.0030, 7219.13.0050, 7219.13.0070, and 7219.13.0080 are now 7219.13.0031, 7219.13.0051, 7219.13.0071, and 7219.13.0081, respectively.

Excluded from the scope of this review are the following: (1) sheet and strip that is not annealed or otherwise heat treated and pickled or otherwise descaled, (2) sheet and strip that is cut to length, (3) plate (i.e., flat-rolled stainless steel products of a thickness of 4.75 mm or more), (4) flat wire (i.e., cold-rolled sections, with a prepared edge, rectangular in shape, of a width of not more than 9.5 mm), and (5) razor blade steel. Razor blade steel is a flat-rolled product of stainless steel, not further worked than cold-rolled (cold-reduced), in coils, of a width of not more than 23 mm and a thickness of 0.266 mm or less, containing, by weight, 12.5 to 14.5 percent chromium, and certified at the time of entry to be used in the manufacture of razor blades. See Chapter 72 of the HTS, “Additional U.S. Note” 1(d).

In response to comments by interested parties, the Department has determined that certain specialty stainless steel products are also excluded from the scope of this review. These excluded products are described below.

Flapper valve steel is defined as stainless steel strip in coils containing, by weight, between 0.37 and 0.43 percent carbon, between 1.15 and 1.35 percent molybdenum, and between 0.20 and 0.80 percent manganese. This steel also contains, by weight, phosphorus of 0.025 percent or less, silicon of between 0.20 and 0.50 percent, and sulfur of 0.020 percent or less. The product is manufactured by means of vacuum arc remelting, with inclusion controls for sulphide of no more than 0.04 percent and for oxide of no more than 0.05 percent. Flapper valve steel has a tensile strength of between 210 and 300 ksi, yield strength of between 170 and 270 ksi, plus or minus 8 ksi, and a hardness (Hv) of between 460 and 590. Flapper valve steel is most commonly used to produce specialty flapper valves in compressors.

Also excluded is a product referred to as suspension foil, a specialty steel product used in the manufacture of suspension assemblies for computer disk drives. Suspension foil is described as 302/304 grade or 202 grade stainless steel of a thickness between 14 and 127 microns, with a thickness tolerance of plus-or-minus 2.01 microns, and surface glossiness of 200 to 700 percent Gs. Suspension foil must be supplied in coil widths of not more than 407 mm, and with a mass of 225 kg or less. Roll marks may only be visible on one side, with no scratches of measurable depth. The material must exhibit residual stresses of 2 mm maximum deflection, and flatness of 1.6 mm over 685 mm length.

Certain stainless steel foil for automotive catalytic converters is also excluded from the scope of this review. This stainless steel strip in coils is a specialty foil with a thickness of between 20 and 110 microns used to produce a metallic substrate with a honeycomb structure for use in automotive catalytic converters. The steel contains, by weight, carbon of no more than 0.030 percent, silicon of no more than 1.0 percent, manganese of no more than 1.0 percent, chromium of between 19 and 22 percent, aluminum of no less than 5.0 percent, phosphorus of no more than 0.045 percent, sulfur of no more than 0.03 percent, lanthanum of less than 0.002 or greater than 0.05 percent, and total rare earth elements of more than 0.06 percent, with the balance iron.

Permanent magnet iron-chromium-cobalt alloy stainless strip is also excluded from the scope of this review. This ductile stainless steel strip contains, by weight, 26 to 30 percent chromium, and 7 to 10 percent cobalt, with the remainder of iron, in widths 228.6 mm or less, and a thickness between 0.127 and 1.270 mm. It exhibits magnetic remanence between 9,000 and 12,000 gauss, and a coercivity of between 50 and 300 oersteds. This product is most commonly used in electronic sensors and is currently available under proprietary trade names such as “Arnokrome III.”³

³ “Arnokrome III” is a trademark of the Arnold Engineering Company.

Certain electrical resistance alloy steel is also excluded from the scope of this review. This product is defined as a non-magnetic stainless steel manufactured to American Society of Testing and Materials (“ASTM”) specification B344 and containing, by weight, 36 percent nickel, 18 percent chromium, and 46 percent iron, and is most notable for its resistance to high temperature corrosion. It has a melting point of 1390 degrees Celsius and displays a creep rupture limit of 4 kilograms per square millimeter at 1000 degrees Celsius. This steel is most commonly used in the production of heating ribbons for circuit breakers and industrial furnaces, and in rheostats for railway locomotives. The product is currently available under proprietary trade names such as “Gilphy 36.”⁴

⁴ “Gilphy 36” is a trademark of Imphy, S.A.

Certain martensitic precipitation-hardenable stainless steel is also excluded from the scope of this review. This high-strength, ductile stainless steel product is designated under the Unified Numbering System (“UNS”) as S45500-grade steel, and contains, by weight, 11 to 13 percent chromium, and 7 to 10 percent nickel. Carbon, manganese, silicon and molybdenum each comprise, by weight, 0.05 percent or less, with phosphorus and sulfur each comprising, by weight, 0.03 percent or less. This steel has copper, niobium, and titanium added to achieve aging, and will exhibit yield strengths as high as 1700 Mpa and ultimate tensile strengths as high as 1750 Mpa after aging, with elongation percentages of 3 percent or less in 50 mm. It is generally provided in thicknesses between 0.635 and 0.787 mm, and in widths of 25.4 mm. This product is most commonly used in the manufacture of television tubes and is currently available under proprietary trade names such as “Durphynox 17.” ⁵

⁵ “Durphynox 17” is a trademark of Imphy, S.A.

Finally, three specialty stainless steels typically used in certain industrial blades and surgical and medical instruments are also excluded from the scope of this review. These include stainless steel strip in coils used in the production of textile cutting tools (e.g., carpet knives).⁶ This steel is similar to AISI grade 420 but containing, by weight, 0.5 to 0.7 percent of molybdenum. The steel also contains, by weight, carbon of between 1.0 and 1.1 percent, sulfur of 0.020 percent or less, and includes between 0.20 and 0.30 percent copper and between 0.20 and 0.50 percent cobalt. This steel is sold under proprietary names such as “GIN4 Mo.” The second excluded stainless steel strip in coils is similar to AISI 420-J2 and contains, by weight, carbon of between 0.62 and 0.70 percent, silicon of between 0.20 and 0.50 percent, manganese of between 0.45 and 0.80 percent, phosphorus of no more than 0.025 percent and sulfur of no more than 0.020 percent. This steel has a carbide density on average of 100 carbide particles per 100 square microns. An example of this product is “GIN5” steel. The third specialty steel has a chemical composition similar to AISI 420 F, with carbon of between 0.37 and 0.43 percent, molybdenum of between 1.15 and 1.35 percent, but lower manganese of between 0.20 and 0.80 percent, phosphorus of no more than 0.025 percent, silicon of between 0.20 and 0.50 percent, and sulfur of no more than 0.020 percent. This product is supplied with a hardness of more than Hv 500 guaranteed after customer processing, and is supplied as, for example, “GIN6”.⁷

⁶ This list of uses is illustrative and provided for descriptive purposes only.

⁷ “GIN4 Mo,” “GIN5” and “GIN6” are the proprietary grades of Hitachi Metals America, Ltd.

Rescission of Review

In the Preliminary Results, we stated that Ta Chen reported, and the Department confirmed through independent U.S. Customs Service data, that it had no shipments of subject merchandise during the POR. Since Ta Chen did not report any shipments during the POR, we had no basis for determining a margin. Consequently, in accordance with 19 CFR 351.213(d)(3) and consistent with the Department's practice, we preliminarily rescinded our review with respect to Ta Chen. Since we have received no information since the Preliminary Results that contradicts the decision made in the preliminary results of review, we are rescinding the review with respect to Ta Chen. Since Ta Chen did not participate in the original investigation, its cash deposit rate will remain at 12.61 percent, which is the all others rate established in the less than fair value (“LTFV”) investigation.

Analysis of Comments Received

All issues raised in the case and rebuttal briefs by parties to this administrative review are addressed in the “Issues and Decision Memorandum” (“Decision Memorandum”) from Joseph A. Spetrini, Deputy Assistant Secretary, Import Administration, to Faryar Shirzad, Assistant Secretary for Import Administration, dated February 4, 2002, which is hereby adopted by this notice. A list of the issues which parties have raised and to which we have responded, all of which are in the Decision Memorandum, is attached to this notice as an Appendix. Parties can find a complete discussion of all issues raised in this review and the corresponding recommendations in this public memorandum which is on file in the Central Records Unit, Room B-099 of the main Department building. In addition, a complete version of the Decision Memorandum can be accessed directly on the Web at http://ia.ita.doc.gov/frn/frnhome.htm. The paper copy and electronic version of the Decision Memorandum are identical in content.

Sales Below Cost

We disregarded sales below cost for both Tung Mung and YUSCO during the course of the review.

Changes Since the Preliminary Results of Review

Based on our analysis of comments received, we have made changes in the margin calculations for YUSCO, Tung Mung and Chia Far. The changes are listed below:

YUSCO

•We removed the tolled sales from the home market database before calculating the dumping margin.

•We revised the calculation of home market credit in arm's length program to reflect the calculation of credit in the model match program.

Tung Mung

•We revised our calculation of material costs to eliminate the amount of the estimated outstanding material purchase discount included in the cost of manufacturing.

•We revised the calculation of cost of goods sold (“COGS”) used in the denominator of the CPA adjustment, general and administrative expenses, and interest expense factors to eliminate the total factory-wide cost of packing during the POR.

Chia Far

•We revised the AFA rate applicable to Chia Far to eliminate the impact of middleman dumping from the margins calculated for YUSCO during the original investigation.

Final Results of Review

We determine that the following percentage margin exists for the period January 4, 1999 through June 30, 2000:

Stainless Steel Sheet and Strip in Coils from Taiwan
Manufacturer/exporter/ ­reseller | Margin ­(percent)
YUSCO | 0.00
Tung Mung | 0.00
Chia Far | 21.10

The Department shall determine, and Customs shall assess, antidumping duties on all appropriate entries. The Department will issue appraisement instructions directly to the Customs Service. For duty-assessment purposes, we will calculate importer-specific assessment rates by dividing the dumping margins calculated for each importer by the total entered value of sales for each importer during the period of review.

Cash Deposit Requirements

The following deposit requirements will be effective upon publication of this notice of final results of administrative review for all shipments of stainless steel sheet and strip from Taiwan entered, or withdrawn from warehouse, for consumption on or after the date of publication, as provided by section 751(a)(1) of the Act: (1) The cash deposit rates for YUSCO, Tung Mung and Chia Far will be the rates shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in these or any previous reviews conducted by the Department, the cash deposit rate will be the “all others” rate, which is 12.61 percent.

These deposit requirements shall remain in effect until publication of the final results of the next administrative review.

Notification of Interested Parties

This notice also serves as a final reminder to importers of their responsibility under 19 CFR 351.402(f)(2) to file a certificate regarding the reimbursement of antidumping duties or countervailing duties prior to liquidation of the relevant entries during this review period. Failure to comply with this requirement could result in the Secretary's presumption that reimbursement of the antidumping duties or countervailing duties occurred and the subsequent assessment of double antidumping duties or countervailing duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 771(i) of the Act.

February 4, 2002
Faryar Shirzad,
Assistant Secretary for Import Administration.

APPENDIX 1-- ISSUES IN DECISION MEMORANDUM

A. Issues with Respect to YUSCO

Comment 1: Knowledge of Destination of Sales

Comment 2: Customer Category and Channel of Distribution

Comment 3: Tolled Sales

Comment 4: Home Market Credit Expenses

Comment 5: Date of Payment

Comment 6: U.S. Credit Expenses

Comment 7: Inland Transportation

Comment 8: Home Market Rebates

Comment 9: Home Market Warranty Expenses

Comment 10: Packing Expenses

Comment 11: U.S. Brokerage and Handling Expenses

Comment 12: Different Width Basis for Reporting Sales and Cost

Comment 13: Interest Expense

Comment 14: Lack of Sales During the POR

Comment 16: Collapsing of YUSCO and its Affiliates in the Home Market

Comment 17: Basis for Revocation

B. Issues with Respect to Tung Mung

Comment 18: Use of Surrogate Control Numbers (“CONNUMs”)

Comment 19: Estimated Outstanding Material Purchase Discounts

Comment 20: Auditor's Adjustment, General and Administrative Expenses (“G&A”), and Interest Expense

Comment 21: G&A Expense

Comment 22: Basis for Revocation

C. Issues with Respect to Chia Far

Comment 23: Affiliation via a Principal/Agent Relationship

Comment 24: Use of adverse facts available (“AFA”)

Comment 25: Fairness of the Proceedings

Comment 26: Untimely Submission of Factual Information

Comment 27: Partial AFA

Comment 28: Reimbursement

Comment 29: Applicability of the AFA Rate

Comment 30: Release of Business Proprietary Information

D. Issues with Respect to Ta Chen Stainless Pipe Co., Ltd. (“Ta Chen”)

Comment 31: The Rescission of Ta Chen

[FR Doc. 02-3540 Filed 2-12-02; 8:45 am]

BILLING CODE 3510-DS-S